DEPARTMENT OF ENERGY

Federal Energy Regulatory Commission

Notice of FERC Staff Attendance at Southwest Power Pool Board of Directors/Members Committee Meeting and Southwest Power Pool Regional State Committee Meeting

January 23, 2008.

The Federal Energy Regulatory Commission hereby gives notice that members of its staff may attend the meetings of the Southwest Power Pool (SPP) Regional State Committee Board of Directors, SPP Members Committee and SPP Board of Directors as noted below. Their attendance is part of the Commission's ongoing outreach efforts.

SPP Regional State Committee Annual Meeting: January 28, 2008 (1 p.m.-5 p.m.), Hyatt Regency Austin—Town Lake, 208 Barton Springs Rd., Austin, TX 78704, 512-477-1234.

SPP Board of Directors/Members Committee: January 29, 2008 (8:30 a.m.-3 p.m.), Hyatt Regency Austin—Town Lake, 208 Barton Springs Rd., Austin, TX 78704, 512-477-1234.

The discussions may address matters at issue in the following proceedings:

Docket No. ER06-451, Southwest Power Pool, Inc.

Docket No. EL06-71, Associated Electric Cooperative, Inc. v Southwest Power Pool

Docket No. ER07-319, Southwest Power Pool, Inc.

Docket No. ER07-371, Southwest Power Pool, Inc.

Docket No. EL07-27, East Texas Electric Cooperative, Inc., et al. and

Docket No. ER07-396, Southwest Power Pool, Inc.

Docket No. ER07-1255, Southwest Power Pool, Inc.

Docket No. ER07-1311, Southwest Power Pool, Inc.

Docket No. ER07-1417, Midwest Independent System Operator, Inc.

Docket No. EL07-87, Xcel Energy Services Inc. v. Southwest Power Pool, Inc., John Deere Wind Energy

Docket No. ER08-242, Southwest Power Pool, Inc.

Docket No. ER08-340, Southwest Power Pool, Inc.

Docket No. OA08-5, Southwest Power Pool, Inc.

Docket No. OA08-60, Southwest Power Pool, Inc.

Docket No. OA08-61, Southwest Power Pool, Inc.

These meetings are open to the public.

For more information, contact Patrick Clarey, Office of Energy Market Regulation, Federal Energy Regulatory Commission at (317) 249-5937 or patrick.clarey@ferc.gov.

Kimberly D. Bose,
Secretary.

[FR Doc. E8-1589 Filed 1-29-08; 8:45 am]

BILLING CODE 6717-01-P